DEPARTMENT OF THE INTERIOR

Office of the Secretary

Establishment Notice

AGENCY: Minerals Management Service, Interior.

ACTION: Notice of establishment of the Outer Continental Shelf (OCS) Policy Committee.

SUMMARY: Following consultation with the General Services Administration, notice is hereby given that the Secretary of the Interior has established the OCS Policy Committee.

The OCS Policy Committee will provide advice to the Secretary of the Interior, through the Director of the Minerals Management Service, related to the discretionary functions of the Bureau under the Outer Continental Shelf Lands Act and related statutes. The Committee will review and comment on all aspects of leasing, exploration, development and protection of OCS resources and provide a forum to convey views representative of coastal states, local government, offshore mineral industries, environmental community, and other users of the offshore and the interested public.

FOR FURTHER INFORMATION CONTACT: Jeryne Bryant, Minerals Management Service, Offshore Minerals Management, Herndon, Virginia 20170-4817, telephone, (703) 787-1213.

Certification

I hereby certify that the OCS Policy Committee is in the public interest in connection with the performance of duties imposed on the Department of the Interior by 43 U.S.C. 1331 et. seq., 30 U.S.C. 1701 et. seq., and 30 U.S.C. 1001 et. seq.

Dated: February 27, 2004.
Gale A. Norton,
Secretary of the Interior.

[FR Doc. 04-8425 Filed 4-13-04; 8:45 am]

BILLING CODE 4310-MR-P